DEPARTMENT OF STATE

[Public Notice 11658]

Biodiversity Beyond National Jurisdiction

ACTION: Notice of Public Meeting

SUMMARY: The Department of State will hold an information session regarding upcoming United Nations negotiations concerning marine biodiversity in areas beyond national jurisdiction.

DATES: The public meeting will be held via WebEx on February 23, 2022, 3:00—4:00 p.m.

FOR FURTHER INFORMATION CONTACT: If you would like to participate in this meeting, please send your (1) name, (2) organization/affiliation, and (3) email address and phone number, to Erika Carlsen at CarlsenEL@state.gov.

SUPPLEMENTARY INFORMATION: The Department of State will hold a public meeting at 3:00 p.m. on Wednesday, February 23, 2022, to prepare for the fourth session of an Intergovernmental Conference (IGC) on the conservation and sustainable use of marine biological diversity of areas beyond national jurisdiction (BBNJ). This public meeting will be held by way of WebEx, with a capacity of up to 1000 members of the public to participate. To RSVP, participants should contact the meeting coordinator, Erika Carlsen, by email at CarlsenEL@state.gov for log on and dial-in information, and to request reasonable accommodation. Requests for reasonable accommodation received after February 18, 2022, will be considered but might not be possible to fulfill.

The United Nations will convene the fourth session of the BBNJ IGC on March 7-18, 2022, in New York City. The UN General Assembly established the IGC to consider the recommendations of a two-year Preparatory Committee and to elaborate the text of an international legally binding instrument under the United Nations Convention on the Law of Sea on BBNJ. The previously scheduled fourth session of the IGC was postponed due to the coronavirus pandemic. Additional information on the BBNJ process is available at www.un.org/bbnj.

We are inviting interested stakeholders to this virtual public meeting to share views about the BBNJ IGC, in particular to provide information to assist the U.S. Government in developing its positions. We will provide a brief overview of the upcoming discussions and listen to the viewpoints of U.S. stakeholders. The information obtained from this session will help the U.S. delegation prepare for participation in the fourth IGC session.

Zachary A. Parker,
Director, Office of Directives Management, U.S. Department of State.

[FR Doc. 2022-03670 Filed 2-18-22; 8:45 am]

BILLING CODE 4710-09-P